DEPARTMENT OF ENERGY

Federal Energy Regulatory Commission

[Docket No. AC05-25-000, et al.]

Wisconsin Electric Power Company, et al.; Electric Rate and Corporate Filings

January 12, 2005.

The following filings have been made with the Commission. The filings are listed in ascending order within each docket classification.

1. Wisconsin Electric Power Company

[Docket No. AC05-25-000]

Take notice that on January 7, 2005, Wisconsin Electric Power Company (Wisconsin Electric) submitted a request a waiver of compliance in reporting in the FERC Form 1 as it pertains to the allowance for funds used during construction and electric plant instruction No. 3(17). Wisconsin Electric states that it does not own any transmission facilities.

Comment Date: 5 p.m. Eastern Time on January 28, 2005.

2. Old Dominion Electric Cooperative, New Dominion Energy Cooperative, New Dominion Energy Cooperative, New Dominion Energy Cooperative

[Docket Nos. EC05-1-001, ER05-18-001, ER05-20-001]

Take notice that on January 7, 2005, Old Dominion Electric Cooperative (Old Dominion) and New Dominion Energy Cooperative (New Dominion) joined in filing an amendment to the above referenced dockets in response to the December 8, 2004, deficiency letter, issued by the Commission in these dockets.

Old Dominion stated that a copy of this filing was served upon each of its member cooperatives, the public service commissions in the Commonwealth of Virginia and the states of Delaware, Maryland and West Virginia, and Bear Island Paper Company, LLC.

Comment Date: 5 p.m. Eastern Time on January 28, 2005.

3. American Transmission Company LLC

[Docket No. EC05-34-000]

Take notice that on January 6, 2005, American Transmission Company LLC (ATCLLC) tendered for filing an Application for Authority to Acquire Jurisdictional Facilities under section 203 of the Federal Power Act. ATCLLC requests that the Commission authorize ATCLLC to acquire ownership of certain facilities from Consolidated Water Power Company, Wisconsin.

Comment Date: 5 p.m. Eastern Time on January 27, 2005.

4. Xcel Energy Services Inc.

[Docket No. EC05-35-000]

Take notice that on January 7, 2005, Xcel Energy Services Inc. (XES) tendered for filing on behalf of Northern States Power Company (NSP) an application under section 203 of the Federal Power Act, requesting authorization from the Commission for the sale of a used 187 MVA, 230/115 kV autotransformer presently held as a spare part at NSP's Black Dog generating plant. XES explains that the sale would be made to NSP's utility affiliate Southwestern Public Service Company, another public utility subject to Commission jurisdiction.

Comment Date: 5 p.m. Eastern Time on January 28, 2005.

5. Diablo Winds, LLC

[Docket No. EG05-28-000]

Take notice that on January 4, 2005, Diablo Winds, LLC (Diablo Winds), filed with the Federal Energy Regulatory Commission an application for determination of exempt wholesale generator status pursuant to part 365 of the Commission's regulations.

Diablo Winds states it will own 31 Vestas-V47 turbines with a nameplate capacity of .66 MW each, however, due to site conditions the nameplate capacity has been downgraded to .58 MW each.

Comment Date: 5 p.m. Eastern Time on January 25, 2005.

6. FPL Energy Cowboy Wind, LLC

[Docket No. EG05-29-000]

Take notice that on January 7, 2005, FPL Energy Cowboy Wind, LLC (FPLE Cowboy Wind), filed with the Commission an application for determination of exempt wholesale generator status pursuant to part 365 of the Commission's regulations.

FPLE Cowboy Wind states it is a wind-powered facility located near Weatherford, Oklahoma. FPLE Cowboy Wind further states that the facility has a nameplate capacity of 106.5 MW. FPLE Cowboy Wind explains that it will own a 34.5 kV collector system associated with the windfarm string buses and the transmission-related facilities from the collector system to the high side of a new substation, where the energy will be delivered. The interconnecting facilities beginning at the delivery point will be owned and operated by Public Service Company of Oklahoma.

Comment Date: 5 p.m. Eastern Time on January 28, 2005.

7. Colorado River Commission v. Nevada Power Company

[Docket No. EL04-100-001]

Take notice that on January 6, 2005, Nevada Power Company submitted a compliance filing pursuant to the Commission's November 19, 2004 order in Docket No. EL04-100-000, requiring a time value refund to the Colorado River Commission.

Comment Date: 5 p.m. Eastern Time on February 7, 2005.

8. AEP Power Marketing, Inc.; AEP Service Corporation; CSW Power Marketing, Inc.; CSW Energy Services, Inc.; Central and South West Services, Inc.

[Docket Nos. ER96-2495-024, ER97-4143-012, ER97-1238-019, ER98-2075-018, ER98-542-014]

Take notice that on January 3, 2005, American Electric Power Service Corporation, on behalf of AEP Power Marketing, Inc., AEP Service Corporation, CSW Power Marketing, Inc., CSW Energy Services, Inc., and Central and South West Services, Inc. (collectively, AEP) submitted revised market tariffs in compliance with the Commission's order issued on December 17, 2004 in Docket Nos. ER96-2495-020, et al., 109 FERC ¶ 61,276 (2004).

AEP states that copies of the filing were served on parties on the official service list in the above-captioned proceeding.

Comment Date: 5 p.m. Eastern Time on January 24, 2005.

9. Alliant Energy Corporate Services, Inc.

[Docket No. ER03-762-006]

Take notice that on January 4, Alliant Energy Corporate Services, Inc., (Alliant Energy) filed with the Commission (FERC) an amendment to its market-based rate wholesale power sales Tariff No. 2 (MR-2 Tariff) to prohibit sales under the MR-2 Tariff between Alliant Energy and any affiliate except pursuant to a separate filing under section 205 of the Federal Power Act. Alliant Energy states that this filing is made in compliance with the Commission's Order in Alliant Energy Corporate Services, Inc., 109 2005 FERC ¶ 61,289 (2004).

Comment Date: 5 p.m. Eastern Time on January 25, 2005.

10. Pacific Gas & Electric Company

[Docket Nos. ER04-688-002, ER04-689-003, ER04-690-002, ER04-693-002 (not consolidated)]

Take notice that on January 3, 2005, Pacific Gas & Electric Company, PG&E submitted for filing an Errata correcting minor errors in certain tables that are part of PG& E's service agreement for wholesale distribution service to Western Area Power Administration, in compliance with the Commission's Order issued December 3, 2004 in Docket Nos. ER04-688-001, et al.

Comment Date: 5 p.m. Eastern Time on January 24, 2005.

11. American Electric Power Service Corporation

[Docket Nos. ER04-1003-003, ER04-1007-003]

Take notice that on January 4, 2005, American Electric Power Service Corporation (AEPSC) on behalf of the AEP operating companies in its East Zone, (namely Appalachian Power Company, Columbus Southern Power Company, Indiana Michigan Power Company, Kentucky Power Company, Kingsport Power Company, Ohio Power Company, and Wheeling Power Company) supplemented its December 2, 2004 compliance filing in order to provide additional information concerning the Interconnection and Local Delivery Service Agreement attached as Exhbit T to that filing.

AEPSC states that copies of the filing were served on parties on the official service list in the above-captioned proceeding.

Comment Date: 5 p.m. Eastern Time on January 25, 2005.

12. Sirius Investment Management, Inc.

[Docket No. ER05-71-002]

Take notice that on January 3, 2005, Sirius Investment Management, Inc. (Sirius) submitted an amended petition for acceptance of initial rate schedule FERC No. 1; the granting of certain blanket approvals, including the authority to sell electricity at market-based rates; and the waiver of certain Commission regulations. Sirius states that it intends to engage in wholesale electric power and energy purchases and sales as a marketer. Sirius also states that it is not in the business of generating or transmitting electric power.

Comment Date: 5 p.m. Eastern Time on January 24, 2005.

13. PJM Interconnection, L.L.C.

[Docket No. ER05-85-002]

Take notice that on January 4, 2005, PJM Interconnection, L.L.C. (PJM), submitted corrections to the tariff revisions previously filed and accepted in this proceeding for the integration of Duquesne Light Company (Duquesne) into PJM, to remove references to Virginia Electric and Power Company (Dominion). PJM states that these corrections are needed because Dominion's integration into PJM, which the previously filed sheets assumed would occur prior to Duquesne's integration, has been delayed. PJM also states that the corrected tariff sheets reflect an effective date of January 1, 2005, consistent with the effective date established by the Commission's December 20, 2004 order in this proceeding, 109 FERC ¶ 61,299 (2004).

PJM states that copies of this filing were served upon all persons on the service list in this docket, as well as all PJM members, and each state electric utility regulatory commission in the PJM region.

Comment Date: 5 p.m. Eastern Time on January 25, 2005.

14. Upper Peninsula Power Company

[Docket No. ER05-89-001]

Take notice that on January 4, 2005, Upper Peninsula Power Company (UPPCO) filed a market-based rate tariff (MBR Tariff) for sales into energy markets of the Midwest Independent Transmission System Operator, Inc. (MISO) and the PJM Interconnection, L.L.C. (PJM). UPPCO states that, the MBR Tariff replaces the tariff which UPPCO tendered on October 28, 2004 and which provided for bidding into those energy markets based on UPPCO's embedded costs. UPPCO requests that the Commission waive the sixty-day notice requirement and that the Commission allow the MBR Tariff to become effective on March 1, 2005. UPPCO states that it has also renewed its request that its previously tendered Rate Schedule FERC No. 53 regarding sales by UPPCO into PJM from May 13, 2004 through July 23, 2004 be allowed to become effective in that period.

UPPCO states that copies of the filing were served upon the official service list in this proceeding, PJM, MISO and the Michigan Public Service Commission.

Comment Date: 5 p.m. Eastern Time on January 25, 2005.

15. Mirant Delta, LLC; Mirant Potrero, LLC

[Docket No. ER05-343-001]

Take notice that, on January 7, 2005, Mirant Delta, LLC (Mirant Delta) and Mirant Potrero, LLC (collectively, Mirant) submitted an amendment to an earlier rate filing made on December 16, 2004 in Docket No. ER05-343-000.

Comment Date: 5 p.m. Eastern Time on January 18, 2005.

16. Southern California Edison Company

[Docket No. ER05-417-000]

Take notice, that on January 4, 2005, Southern California Edison Company (SCE) tendered for filing an interconnection facilities agreement (Agreement), Service Agreement No. 36 under SCE's Transmission Owner Tariff (TOT) FERC Electric Tariff, Second Revised Original Volume No. 6, between SCE and the PPM Energy, Inc. SCE requests an effective date of January 4, 2005.

Comment Date: 5 p.m. Eastern Time on January 25, 2005.

17. Telemagine, Inc.

[Docket No. ER05-419-000]

Take notice that on January 4, 2005, Telemagine, Inc. (Seller) petitioned the Commission for an order: (1) Accepting Seller's proposed FERC rate schedule for market-based rates; (2) granting waiver of certain requirements under subparts B and C of part 35 of the regulations; (3) granting the blanket approvals normally accorded sellers permitted to sell at market-based rates; and (4) granting waiver of the 60-day notice period.

Comment Date: 5 p.m. Eastern Time on January 25, 2005.

18. American Electric Power Service Corporation

[Docket No. ER05-420-000]

Take notice that on January 4, 2005, American Electric Power Service Corporation, (AEPSC) submitted for filing as Original Service Agreement No. 619 under FERC Electric Tariff, Third Revised Volume No. 6, an executed Letter Agreement between Appalachian Power Company and Bristol Virginia Utilities. AEP requests an effective date of November 11, 2004.

AEPSC states that a copy of this filing have been served upon the Virginia State Corporation Commission.

Comment Date: 5 p.m. Eastern Time on January 25, 2005.

19. Encogen Northwest, L.P.

[Docket No. ER05-421-000]

Take notice that on January 4, 2005, Encogen Northwest, L.P. (Encogen) filed with the Commission, pursuant to section 205 of the Federal Power Act, a tariff relating to the arrangement between Encogen and Puget Sound Energy, Inc. (Puget) concerning the provision of capacity and energy to Puget from a 170 MW cogeneration facility owned by Encogen. Encogen requests for waiver of the prior notice requirements.

Comment Date: 5 p.m. Eastern Time on January 25, 2005.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please e-mail FERCOnlineSupport@ferc.gov, or call (866) 208-3676 (toll free). For TTY, call (202) 502-8659.

Magalie R. Salas,
Secretary.

[FR Doc. E5-296 Filed 1-25-05; 8:45 am]

BILLING CODE 6717-01-P